NUCLEAR REGULATORY COMMISSION

[Docket No. 40-8904]

Establishment of the U.S. Department of Energy as the Long-Term Custodian of the L-Bar Uranium Mill Tailings Site Near Seboyeta, NM, and Termination of the Sohio Western Mining Company Source Materials License for the L-Bar Site

AGENCY: Nuclear Regulatory Commission.

ACTION: Notice of establishment of the U.S. Department of Energy (DOE) as the long-term custodian of the L-Bar uranium mill tailings site near Seboyeta, New Mexico, under the general license provisions of 10 CFR 40.28, and termination of the Sohio Western Mining Company specific Source Materials License SUA-1472 for the L-Bar site.

FOR FURTHER INFORMATION CONTACT: Rick Weller, Project Manager, Fuel Cycle Facilities Branch, Division of Fuel Cycle Safety and Safeguards, Office of Nuclear Material Safety and Safeguards, U.S. Nuclear Regulatory Commission, Washington, DC 20555-0001. Telephone: (301) 415-7287; fax number: (301) 415-5955; e-mail: rmw2@nrc.gov.

SUPPLEMENTARY INFORMATION:

I. Introduction

On September 22, 2004, the Sohio Western Mining Company (SWMC) transferred ownership of the L-Bar uranium mill tailings site near Seboyeta, New Mexico, to the DOE, as required by 10 CFR 40, Appendix A, Criterion 11, prior to termination of SWMC's specific license. Subsequently, by letter dated October 13, 2004, the DOE submitted the final Long-Term Surveillance Plan (LTSP) for the L-Bar site for review by the U.S. Nuclear Regulatory Commission (NRC). Based on the review of the LTSP, the NRC has determined that the LTSP satisfies the requirements in 10 CFR part 40, Appendix A, Criterion 12, and § 40.28 for the long-term surveillance of a tailings disposal site. Accordingly, notice is hereby given that the NRC has accepted the LTSP for the L-Bar site. This acceptance establishes the DOE as the long-term custodian and caretaker of the L-Bar site under the general license specified in 10 CFR 40.28. In a concurrent action, the NRC has terminated the SWMC specific Source Materials License SUA-1472 for the L-Bar site. These actions complete all requirements for closure of the L-Bar site under the Uranium Mill Tailings Radiation Control Act of 1978, as amended. These actions do not require an environmental assessment as they are categorically excluded under 10 CFR 51.22(c)(11).

II. Further Information

The NRC has prepared correspondence which documents the actions that establish the DOE as the long-term custodian of the L-Bar site under the general license specified in 10 CFR 40.28 and terminate the SWMC specific Source Materials License SUA-1472 for the L-Bar site. In accordance with 10 CFR 2.390 of the NRC's “Rules of Practice,” copies of this correspondence, as well as the L-Bar LTSP submitted by DOE letter dated October 13, 2004, are available electronically at the NRC's Electronic Reading Room at http://www.nrc.gov/reading-rm/adams.html. From this site, you can access the NRC's Agencywide Document Access and Management System (ADAMS), which provides text and image files of NRC's public documents. The ADAMS accession numbers for the documents related to this notice are listed below. If you do not have access to ADAMS or if there are problems in accessing the documents located in ADAMS, contact the NRC Public Document Room (PDR) Reference staff at 1-800-397-4209, 301-415-4737, or by e-mail to pdr@nrc.gov.

Documents Related to This Notice

1. Letter dated October 13, 2004, from J. Sink, DOE, to G. Janosko, NRC, submitting the final LTSP for the L-Bar site. ML042920474.

2. Letter dated October 21, 2004, from G. Janosko, NRC, to J. Sink, DOE, accepting the final LTSP for the L-Bar site. ML043020020.

3. Letter dated October 21, 2004, from G. Janosko, NRC, to J. Trummel, Kennecott Energy Company, terminating the SWMC specific Source Materials License SUA-1472 for the L-Bar site. ML043020032.

These documents may also be viewed electronically on the public computers located at the NRC's PDR, O 1 F21, One White Flint North, 11555 Rockville Pike, Rockville, MD 20852. The PDR reproduction contractor will copy documents for a fee.

Dated in Rockville, Maryland, this 5th day of November, 2004.
For the Nuclear Regulatory Commission.
Gary S. Janosko,
Chief, Fuel Cycle Facilities Branch, Division of Fuel Cycle Safety and Safeguards, Office of Nuclear Material Safety and Safeguards.

[FR Doc. 04-25257 Filed 11-12-04; 8:45 am]

BILLING CODE 7590-01-P